NUCLEAR REGULATORY COMMISSION

[Docket No. 50-237]

Exelon Generation Company, LLC; Notice of Issuance of Amendment to Facility Operating License: Correction

AGENCY: Nuclear Regulatory Commission.

ACTION: Notice of issuance; correction.

SUMMARY: This document corrects a Notice of Issuance of Amendment to Renewed Facility Operating License No. DPR-19 for Dresden Nuclear Power Station, Unit 2, appearing in the Federal Register on March 14, 2006 (71 FR 13185), that incorrectly referenced the applicable amendment number to be 210 when the correct amendment number was 218. This action is necessary to correct an erroneous amendment number.

FOR FURTHER INFORMATION CONTACT: Maitri Banerjee, Office of Nuclear Reactor Regulation, U.S. Nuclear Regulatory Commission, Washington, DC 20555-0001; telephone (301) 415-2277, e-mail: MXB@NRC.GOV.

SUPPLEMENTARY INFORMATION: On page 13185 of the Federal Register, in the first column, eighth line from the bottom, it is corrected to read from “210” to “218”.

Dated in Rockville, Maryland, this 13th day of April 2006.
For the Nuclear Regulatory Commission.
Maitri Banerjee,
Senior Project Manager, Plant Licensing Branch III-2, Division of Operating Reactor Licensing, Office of Nuclear Reactor Regulation.

[FR Doc. E6-5934 Filed 4-19-06; 8:45 am]

BILLING CODE 7590-01-P